DEPARTMENT OF COMMERCE

Foreign-Trade Zones Board

[S-235-2019]

Foreign-Trade Zone 7—Mayaguez, Puerto Rico; Application for Expansion of Subzone 7F; Puma Energy Caribe, LLC, Guaynabo, Puerto Rico

An application has been submitted to the Foreign-Trade Zones Board (the Board) by the Puerto Rico Industrial Development Company, grantee of FTZ 7, requesting an expansion of Subzone 7F on behalf of Puma Energy Caribe, LLC. The application was submitted pursuant to the provisions of the Foreign-Trade Zones Act, as amended (19 U.S.C. 81a-81u), and the regulations of the Board (15 CFR part 400). It was formally docketed on November 19, 2019.

Subzone 7F was approved on May 15, 2001 (Board Order 1165, 66 FR 28890-28891, May 25, 2001) and consists of one site (173.81 acres) located at State Road 28, Km 2, Bayamón. The applicant is requesting authority to expand the subzone to include an additional site: Proposed Site 2 (45.18 acres)—Road 28, Km .08, Guaynabo. The existing subzone and the proposed site would be subject to the existing activation limit of FTZ 7. No additional authorization for production activity has been requested at this time.

In accordance with the Board's regulations, Camille Evans of the FTZ Staff is designated examiner to review the application and make recommendations to the Executive Secretary.

Public comment is invited from interested parties. Submissions shall be addressed to the Board's Executive Secretary and sent to: ftz@trade.gov. The closing period for their receipt is January 6, 2020. Rebuttal comments in response to material submitted during the foregoing period may be submitted during the subsequent 15-day period to January 21, 2020.

A copy of the application will be available for public inspection in the “Reading Room” section of the Board's website, which is accessible via www.trade.gov/ftz.

For further information, contact Camille Evans at Camille.Evans@trade.gov or (202) 482-2350.

Dated: November 19, 2019.
Andrew McGilvray,
Executive Secretary.

[FR Doc. 2019-25511 Filed 11-22-19; 8:45 am]

BILLING CODE 3510-DS-P